DEPARTMENT OF AGRICULTURE

Submission for OMB Review; Comment Request

April 16, 2020.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by May 22, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Generic Information Collection to Conduct Survey Improvement Projects.

OMB Control Number: 0596-NEW.

Summary of Collection: The primary function of the USDA Forest Service is to manage the national forests and grasslands, and to provide assistance and science-based information to land managers across the urban to rural to wilderness continuum. Forests and natural areas provide a wide range of benefits and services to all Americans. Understanding these many issues is critical to managing forests and other natural areas to meet the needs of Americans and to achieving the mission of the USDA Forest Service “to sustain the health, diversity, and productivity of the Nation's forests and grasslands to meet the needs of present and future generations.” In the last decade, state-of-the art techniques have been instituted by the FS and other Federal agencies and are now routinely used to improve the quality and timeliness of surveys and related methods of data collection and analyses, while simultaneously reducing respondents' cognitive workload and burden. The purpose of this generic clearance is to allow the FS to evaluate, adopt, and use these state-of-the art techniques to improve current data collection efforts of forest and for natural land management practices.

Collection of data to support the broad-ranging mission of the USDA Forest Service is supported by a number of federal laws, regulations, and executive orders. The Multiple-Use Sustained-Yield Act of 1960, the Forest and Rangeland Renewable Resources Planning Act (RPA) of 1974 and 1978, and the 2012 Planning Rule all specifically require or support the lines of research proposed in this information collection.

Need and Use of the Information: The information obtained from these efforts will be used to develop new Forest Service surveys and related data collection protocols and improve current ones. Specifically, the information will be used to reduce respondent burden while simultaneously improving the quality of the data collected in these surveys. These objectives are met when respondents are presented with plain, coherent, and unambiguous questions in surveys and related data collection instruments that ask for data compatible with respondents' memory and/or current reporting and record keeping practices. The purpose of the survey improvement projects will be to ensure that Forest Service surveys continuously attempt to meet these standards of excellence. Without adequate testing, data collected may be of poor quality, resulting in additional resources required to process data or negative impacts on survey estimates.

Description of Respondents: Individuals or households; Business or other for-profit; Not-for-profit institutions; State, Local or Tribal Government.

Number of Respondents: 7,500.

Frequency of Responses: On occasion.

Total Burden Hours: 2,700.

Ruth Brown,
Departmental Information Collection Clearance Officer.

[FR Doc. 2020-08450 Filed 4-21-20; 8:45 am]

BILLING CODE 3410-15-P